DEPARTMENT OF HOUSING AND URBAN DEVELOPMENT

[Docket No. FR-7002-N-04]

60 Day Notice of Proposed Information Collection: Community Development Block Grant (CDBG) Urban County Qualification/New York Towns Qualification/Requalification Processes

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments due date: May 14, 2018.

ADDRESSES: Interested persons are invited to submit comments regarding this proposal. Comments should refer to the proposal by name and/or OMB Control Number and should be sent to: Colette Pollard, Departmental Paperwork Reduction Act Officer, QDAM, Department of Housing and Urban Development, 451 7th Street, SW, Room 4160, Washington, DC 20410; telephone: 202-708-3400 (this is not a toll-free number) or email Ms. Pollard for a copy of the proposed form and other available information.

FOR FURTHER INFORMATION CONTACT: Gloria Coates, Senior Community Planning and Development Specialist, Entitlement Communities Division, Office of Block Grant Assistance, 451 7th Street, SW, Room 7282, Washington, DC 20410; telephone (202) 708-1577 (this is not a toll-free number).

SUPPLEMENTARY INFORMATION: This notice informs the public that HUD is seeking approval form OMB for the information collection described in Section A.

A. Overview of Information Collection

Title of Information Collection: Community Development Block Grant (CDBG) Urban County Qualification/New York Towns Qualification/Requalification Processes.

OMB Approval Number: 2506-0170.

Type of Request: Extension.

Form numbers: N/A.

Description of the need for the information and proposed use: The Housing and Community Development Act of 1974, as amended, at sections 102(a)(6) and 102(e) requires that any county seeking qualification as an urban county notify each unit of general local government within the county that such unit may enter into a cooperation agreement to participate in the CDBG program as part of the county. Section 102(d) of the statute specifies that the period of qualification will be three years. Based on these statutory provisions, counties seeking qualification or requalification as urban counties under the CDBG program must provide information to HUD every three years identifying the units of general local governments (UGLGs) within the county participating as a part of the county for purposes of receiving CDBG funds. The population of UGLGs for each eligible urban county is used in HUD's allocation of CDBG funds for all entitlement and State CDBG grantees.

New York towns undertook a similar process every three years. However, after consultation with program counsel, it was determined that a requalification process for New York towns is unnecessary because the units of general local government in New York towns do not have the same statutory notice rights (under Section 102(e) of the Housing and Community Development Act of 1974) as units of general local government participating in an urban county. However, those New York Towns may qualify as metropolitan cities if they are able to secure the participation of all of the villages located within their boundaries. Any New York Town that is located in an urban county may choose to leave that urban county when that county is requalifying to become a metropolitan city. That New York Town will be required to notify the urban county in advance of its decision to defer participation in the urban county's CDBG program and complete the metropolitan city qualification process.

Respondents: (i.e. affected public): Urban counties that are eligible as entitlement grantees of the CDBG program.

Estimation Number of Respondents: There are currently 186 qualified urban counties participating in the CDBG program that must requalify every three years.

Frequency of Response: On average, one new county qualifies each year. The burden on new counties is greater than for existing counties that requalify. The Department estimates new grantees use, on average, 105 hours to review instructions, contact communities in the county, prepare and review agreements, obtain legal opinions, have agreements executed at the local and county level, and prepare and transmit copies of required documents to HUD. The Department estimates that counties that are requalifying use, on average, 65 hours to complete these actions. The time savings on requalification is primarily a result of a grantee's ability to use agreements with no specified end date. Use of such “renewable” agreements enables the grantee to merely notify affected participating UGLGs in writing that their agreement will automatically be renewed unless the UGLG terminates the agreement in writing, rather than executing a new agreement every three years.

| Hours | Hours
Average of 1 new urban county qualifies per year | 1 × 110 = | 110
186 grantees requalify on triennial basis; average annual number of respondents = 62 | 62 × 65 = | 4,030
Total combined burden hours |  | 4,135

This total number of combined burden hours can be expected to increase annually by 220 hours, given the average of two new urban counties becoming eligible entitlement grantees each year.

| Number of respondents | Number of responses per year | House per response annual | Total hours
Average no. of new urban counties that qualify per year |  | 1 | 110 | 110
No. of grantees that requalify on a triennial basis | 186 | 62 | 65 | 4,030
Total combined hours |  |  |  | 4,135

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: February 28, 2018.
Lori Michalski,
Acting General Deputy Assistant Secretary for Community Planning and Development.

[FR Doc. 2018-05301 Filed 3-14-18; 8:45 am]

BILLING CODE 4210-67-P